DEPARTMENT OF COMMERCE

International Trade Administration

[A-570-073]

Antidumping Duty Investigation of Common Alloy Aluminum Sheet From the People's Republic of China: Affirmative Preliminary Determination of Sales at Less-Than-Fair Value, Preliminary Affirmative Determination of Critical Circumstances, and Postponement of Final Determination

AGENCY: Enforcement and Compliance, International Trade Administration, Department of Commerce.

SUMMARY: The Department of Commerce (Commerce) preliminarily determines that common alloy aluminum sheet (aluminum sheet) from the People's Republic of China (China) is being, or is likely to be, sold in the United States at less-than-fair value (LTFV). We invite interested parties to comment on this preliminary determination.

DATES: Applicable June 22, 2018.

FOR FURTHER INFORMATION CONTACT: Deborah Scott or Scott Hoefke, AD/CVD Operations, Office VI, Enforcement and Compliance, International Trade Administration, U.S. Department of Commerce, 1401 Constitution Avenue NW, Washington, DC 20230; telephone (202) 482-2657 and (202) 482-4947, respectively.

SUPPLEMENTARY INFORMATION:

Background

Commerce published the notice of initiation of this LTFV investigation on December 4, 2017.¹ Commerce exercised its discretion to toll deadlines affected by the closure of the Federal Government from January 20 through 22, 2018. The revised deadline for the preliminary determination of this investigation became April 26, 2018.² On March 29, 2018, we postponed the deadline for the preliminary determination by 50 days, in accordance with section 733(c)(1)(B) of the Tariff Act of 1930, as amended (the Act) and 19 CFR 351.205(b)(2).³ On April 13, 2018, we clarified that the postponed preliminary deadline is June 15, 2018.⁴

¹ See Common Alloy Aluminum Sheet from the People's Republic of China: Initiation of Less-Than-Fair-Value and Countervailing Duty Investigations, 82 FR 57214 (December 4, 2017) (Initiation Notice).

² See Memorandum, “Deadlines Affected by the Shutdown of the Federal Government” (Tolling Memorandum), dated January 23, 2018. All deadlines in this segment of the proceeding have been extended by 3 days.

³ See Common Alloy Aluminum Sheet from the People's Republic of China: Postponement of Preliminary Determination of the Less-Than-Fair-Value Investigation, 83 FR 14262 (April 3, 2018).

⁴ See Memorandum, “Less-Than-Fair-Value Investigation of Common Alloy Aluminum Sheet from the People's Republic of China: Correction of the Preliminary Determination Deadline,” dated April 13, 2018.

For a complete description of the events that followed the initiation of this investigation, see the Preliminary Decision Memorandum that is dated concurrently with this determination and is hereby adopted by this notice.⁵ A list of topics included in the Preliminary Decision Memorandum is included as Appendix I to this notice. The Preliminary Decision Memorandum is a public document and is on file electronically via Enforcement and Compliance's Antidumping and Countervailing Duty Centralized Electronic Service System (ACCESS). ACCESS is available to registered users at https://access.trade.gov, and to all parties in the Central Records Unit, Room B8024 of the main Department of Commerce building. In addition, a complete version of the Preliminary Decision Memorandum can be found at http://enforcement.trade.gov/frn/. The signed Preliminary Decision Memorandum and electronic version of the Preliminary Decision Memorandum are identical in content.

⁵ See Memorandum, “Decision Memorandum for the Preliminary Determination in the Antidumping Duty Investigation of Common Alloy Aluminum Sheet from the People's Republic of China,” dated concurrently with this notice (Preliminary Decision Memorandum).

Period of Investigation

The period of investigation (POI) is April 1, 2017, through September 30, 2017.

Scope of the Investigation

The product covered by this investigation is aluminum sheet from China. For a complete description of the scope of this investigation, see Appendix II.

Scope Comments

In accordance with the preamble to Commerce's regulations,⁶ the Initiation Notice set aside a period of time for parties to raise issues regarding product coverage (i.e., “scope”).⁷ We received scope comments from interested parties between December 18 and December 20, 2017.⁸ We received rebuttal scope comments from the Aluminum Association Common Alloy Sheet Trade Enforcement Working Group (the Domestic Industry) on January 3, 2018.⁹ Between March 2 and March 26, 2018, we received additional scope comments from interested parties,¹⁰ and on March 14, 2018, we received rebuttal scope comments from the Domestic Industry.¹¹ Based on the comments received, for purposes of this preliminary determination, we are not modifying the scope language as it appeared in the Initiation Notice.¹²

⁶ See Antidumping Duties; Countervailing Duties, 62 FR 27296, 27323 (May 19, 1997).

⁷ See Initiation Notice, 82 FR at 57215.

⁸ See Letter from the Metal Composite Building Materials and Products Branch of China, “Common Alloy Aluminum Sheet from of China; Antidumping and Countervailing Duty Investigations: Comments on Scope of Investigations,” dated December 18, 2017; Letter from The Beer Institute, “Common Alloy Aluminum Sheet from the People's Republic of China: Comments on Scope,” dated December 18, 2017; Letter from The Truck Trailer Manufacturers Association, “A-570-073, C-570-074 Common Alloy Aluminum Sheet from the People's Republic of China: Initiation of Less-Than-Fair-Value and Countervailing Duty Investigations,” dated December 18, 2017; and Letter from MAHLE Behr USA Inc., MAHLE Behr Troy Inc. and MAHLE Behr Charleston Inc., “Comments on Scope of the Investigation—Common Alloy Aluminum Sheet from the People's Republic of China,” dated December 18, 2017; Letter from Can Manufactures Institute, “Common Alloy Aluminum Sheet from the People's Republic of China: Comments on Scope (Case Nos. A-570-073, C-570-074),” dated December 20, 2017.

⁹ See Letter from the Domestic Industry, “Common Alloy Aluminum Sheet from the People's Republic of China—Domestic Industry's Scope Rebuttal Comments,” dated January 3, 2018.

¹⁰ See Letter from FUJIFILM Manufacturing U.S.A., Inc. and FUJIFILM Holdings America Corporation (collectively, FUJIFILM), “Common Alloy Aluminum Sheet from the People's Republic of China—Scope Exclusion Comments,” dated March 2, 2018; see also Letter from FUJIFILM, “Common Alloy Aluminum Sheet from the People's Republic of China—Submission of Factual Information to Rebut, Clarify, or Correct Factual Information Submitted by the Domestic Industry,” dated March 26, 2018.

¹¹ See Letter from the Domestic Industry, “Common Alloy Aluminum Sheet from the People's Republic of China—Domestic Industry's Rebuttal to F'UJIIFILM's Scope Comments,” dated March 14, 2018.

¹² See Memorandum, “Common Alloy Aluminum Sheet from the People's Republic of China: Scope Comments Preliminary Decision Memorandum,” dated June 15, 2018.

Methodology

We are conducting this investigation in accordance with section 731 of the Tariff Act of 1930, as amended (the Act). We calculated export prices in accordance with section 772 of the Act. Because China is a non-market economy within the meaning of section 771(18) of the Act, we calculated normal value (NV) in accordance with section 773(c) of the Act. For a full description of the methodology underlying our conclusions, see the Preliminary Decision Memorandum.

Affirmative Preliminary Determination, in Part, of Critical Circumstances

On March 23, 2018, the Domestic Industry timely filed a critical circumstances allegation, pursuant to section 733(e)(1) of the Act and 19 CFR 351.206, alleging that critical circumstances exist with respect to imports of aluminum sheet from China.¹³ We preliminarily determine that critical circumstances exist for Nanjie Resources Co., Limited (Nanjie), Yong Jie New Material Co., Ltd. (Yong Jie New Material), and Zhejiang Yongjie Aluminum Co., Ltd. (Yongjie Aluminum) (collectively, Yongjie Companies); Zhejiang GKO Aluminium Stock Co., Ltd. (GKO Aluminium); the companies eligible for a separate rate; and the China-wide entity. In addition, we preliminarily determine that critical circumstances do not exist for Henan Mingtai Al Industrial Co., Ltd. (Henan Mingtai) and Zhengzhou Mingtai Industry Co., Ltd. (Zhengzhou Mingtai) (collectively, Mingtai). For a full description of the methodology and results of our analysis, see the Preliminary Decision Memorandum and Critical Circumstances Memorandum.¹⁴

¹³ See Letter from the Domestic Industry, “Antidumping and Countervailing Duty Investigation of Common Alloy Aluminum Sheet from the People's Republic of China—Domestic Industry's Allegation of Critical Circumstances,” dated March 23, 2018.

¹⁴ See Memorandum, “Calculations for Preliminary Determination of Critical Circumstances,” dated June 15, 2018.

Combination Rates

In the Initiation Notice, we stated that it would calculate combination rates for the respondents that are eligible for a separate rate in this investigation.¹⁵ Policy Bulletin 05.1 describes this practice.¹⁶

¹⁵ See Initiation Notice, 82 FR at 57217.

¹⁶ See Enforcement and Compliance's Policy Bulletin No. 05.1, regarding, “Separate-Rates Practice and Application of Combination Rates in Antidumping Investigations involving Non-Market Economy Countries,” (April 5, 2005) (Policy Bulletin 05.1), available on the Department's website at http://enforcement.trade.gov/policy/bull05-1.pdf.

Preliminary Determination

The preliminary weighted-average antidumping margins are as follows:

Exporter | Producer | Weighted- average margin (percent) | Cash deposit adjusted for subsidy offset (percent)
Henan Mingtai Al Industrial Co., Ltd./Zhengzhou Mingtai Industry Co., Ltd ¹⁷ | Henan Mingtai Al Industrial Co., Ltd./Zhengzhou Mingtai Industry Co., Ltd | 167.16 | 167.16
Alcha International Holdings Limited | Jiangsu Alcha Aluminium Co., Ltd | 167.16 | 167.16
Alumax Composite Material (Jiangyin) Co., Ltd | Chalco Ruimin Co., Ltd | 167.16 | 167.16
Granges Aluminum (Shanghai) Co., Ltd | Granges Aluminum (Shanghai) Co., Ltd | 167.16 | 167.16
Henan Founder Beyond Industry Co., Ltd | Henan Xintai Aluminum Industry Co., Ltd | 167.16 | 167.16
Huafon Nikkei Aluminium Corporation | Huafon Nikkei Aluminium Corporation | 167.16 | 167.16
Jiangsu Lidao New Material Co., Ltd | Henan Jinyang Luyue Co., Ltd | 167.16 | 167.16
Jiangsu Lidao New Material Co., Ltd | Jiangsu Zhong He Aluminum Co., Ltd | 167.16 | 167.16
Jiangyin Litai Ornamental Materials Co., Ltd | Jiangyin Litai Ornamental Materials Co., Ltd | 167.16 | 167.16
Jiangyin New Alumax Composite Material Co. Ltd | Chalco Ruimin Co., Ltd | 167.16 | 167.16
Shandong Fuhai Industrial Co., Ltd | Shandong Fuhai Industrial Co., Ltd | 167.16 | 167.16
Tianjin Zhongwang Aluminium Co., Ltd | Tianjin Zhongwang Aluminium Co., Ltd | 167.16 | 167.16
Xiamen Xiashun Aluminum Foil Co., Ltd | Xiamen Xiashun Aluminum Foil Co., Ltd | 167.16 | 167.16
Yantai Jintai International Trade Co., Ltd | Shandong Nanshan Aluminium Co., Ltd | 167.16 | 167.16
Yinbang Clad Material Co., Ltd | Yinbang Clad Material Co., Ltd | 167.16 | 167.16
Zhengzhou Silverstone Limited | Henan Zhongyuan Aluminum Co., Ltd | 167.16 | 167.16
Zhengzhou Silverstone Limited | Luoyang Xinlong Aluminum Co., Ltd | 167.16 | 167.16
Zhengzhou Silverstone Limited | Shanghai Dongshuo Metal Trade Co., Ltd | 167.16 | 167.16
Zhengzhou Silverstone Limited | Zhengzhou Mingtai Industry Co., Ltd | 167.16 | 167.16
China-Wide Entity | 167.16 | 167.16

Suspension of Liquidation

¹⁷ We preliminarily determine that Henan Mingtai Al Industrial Co., Ltd. and Zhengzhou Mingtai Industry Co., Ltd. are a single entity. See Preliminary Decision Memorandum; see also Memorandum, “Preliminary Affiliation and Collapsing Memorandum for Henan Mingtai Al Industrial Co., Ltd. and Zhengzhou Mingtai Industry Co., Ltd.,” dated concurrently with this notice.

In accordance with section 733(d)(2) of the Act, we will direct U.S. Customs and Border Protection (CBP) to suspend liquidation of all entries of aluminum sheet from China as described in the scope of the investigation section entered, or withdrawn from warehouse, for consumption on or after the date of publication of this notice in the Federal Register. Further, pursuant to section 733(d)(1)(B) of the Act and 19 CFR 351.205(d), Commerce will instruct CBP to require a cash deposit equal to the weighted-average amount by which normal value exceeds U.S. price, as indicated in the chart above as follows: (1) For the producer/exporter combinations listed in the table above, the cash deposit rate is equal to the estimated weighted average dumping margin listed for that combination in the table; (2) for all combinations of China producers/exporters of merchandise under consideration that have not established eligibility for their own separate rates, the cash deposit rate will be equal to the estimated weighted-average dumping margin established for the China-wide entity; and (3) for all third-country exporters of merchandise under consideration not listed in the table above, the cash deposit rate is the cash deposit rate applicable to the China producer/exporter combination that supplied that third-country exporter.

Section 733(e)(2) of the Act provides that, given an affirmative determination of critical circumstances, any suspension of liquidation shall apply to unliquidated entries of merchandise entered, or withdrawn from warehouse, for consumption on or after the later of (a) the date which is 90 days before the date on which the suspension of liquidation was first ordered, or (b) the date on which notice of initiation of the investigation was published. Commerce preliminarily finds that critical circumstances exist for imports of subject merchandise from Nanjie Resources Co., Limited/Yong Jie New Material Co., Ltd./Zhejiang Yongjie Aluminum Co., Ltd.; Zhejiang GKO Aluminium Stock Co., Ltd.; the companies eligible for a separate rate; and the China-wide entity, as discussed above.

In accordance with section 733(e)(2)(A) of the Act, the suspension of liquidation shall apply to all unliquidated entries of merchandise from the producer/exporter combinations identified in this paragraph that were entered, or withdrawn from warehouse, for consumption on or after the date which is 90 days before the publication of this notice.

The suspension of liquidation will remain in effect until further notice.

Disclosure and Public Comment

We will disclose to interested parties the calculations performed in this proceeding within five days of the date of announcement of this preliminary determination in accordance with 19 CFR 351.224(b). Case briefs or other written comments on the preliminary determination described above may be submitted to the Assistant Secretary for Enforcement and Compliance no later than seven days after the date on which the last verification report is issued in this proceeding.¹⁸ Rebuttal briefs, limited to issues raised in case briefs, may be submitted no later than five days after the deadline date for case briefs.¹⁹

¹⁸ See 19 CFR 351.309(b)(2)(c)(i).

¹⁹ See 19 CFR 351.309, see also 19 CFR 351.303 (for general filing requirements).

Parties who submit case briefs or rebuttal briefs in this proceeding are encouraged to submit with each argument: (1) A statement of the issue; (2) a brief summary of the argument; and (3) a table of authorities.²⁰ This summary should be limited to five pages total, including footnotes.

²⁰ See 19 CFR 351.309(c)(2) and (d)(2).

Interested parties who wish to request a hearing must do so in writing within 30 days after the publication of this preliminary determination in the Federal Register.²¹ Requests should contain the party's name, address, and telephone number; the number of participants; and a list of the issues to be discussed. If a request for a hearing is made, we intend to hold the hearing at the U.S. Department of Commerce, 1401 Constitution Avenue NW, Washington, DC 20230, at a date, time, and location to be determined. Parties will be notified of the date, time, and location of any hearing.

²¹ See 19 CFR 351.310(c).

Parties must file their case and rebuttal briefs, and any requests for a hearing, electronically using ACCESS.²² Electronically filed documents must be received successfully in their entirety by 5:00 p.m. Eastern Time on the due dates established above.²³

²² See 19 CFR 351.303(b)(2)(i).

²³ See 19 CFR 351.303(b)(1).

Postponement of Final Determination and Extension of Provisional Measures

Section 735(a)(2) of the Act provides that a final determination may be postponed until not later than 135 days after the date of the publication of the preliminary determination if, in the event of an affirmative preliminary determination, a request for such postponement is made by exporters who account for a significant proportion of exports of the subject merchandise, or in the event of a negative preliminary determination, a request for such postponement is made by the petitioner. Section 351.210(e)(2) of Commerce's regulations requires that requests by respondents for postponement of a final determination be accompanied by a request for extension of provisional measures from a four-month period to a period not more than six months in duration.

Respondents Mingtai and Yongjie Companies requested that, in the event of an affirmative preliminary determination in this investigation, Commerce postpone its final determination, i.e., no later than 135 days after the publication of the preliminary determination in the Federal Register, and that Commerce extend the application of the provisional measures prescribed under section 733(d) of the Act and 19 CFR 351.210(e)(2), from a four-month period to a period not to exceed six months.²⁴ Additionally, the Domestic Industry requested that Commerce postpone its final determination and extend the application of provisional measures from a four-month period to a period not to exceed six months.²⁵

²⁴ See Letter from Mingtai and Yongjie Companies, “Common Alloy Aluminum Sheet from the People's Republic of China: Request for Postponement of Final Determination,” dated May 14, 2018.

²⁵ See Letter from the Domestic Industry, “Common Alloy Aluminum Sheet from the People's Republic of China—Domestic Industry's Request to Extend Deadline for Final Antidumping Determination,” dated May 18, 2018.

In accordance with section 735(a)(2)(A) of the Act and 19 CFR 351.210(b)(2)(ii), because: (1) Our preliminary determination is affirmative; (2) the requesting exporters account for a significant proportion of exports of the subject merchandise; and (3) no compelling reasons for denial exist, we are postponing the final determination until no later than 135 days after the publication of this notice in the Federal Register and extending the provisional measures from a four-month period to a period not greater than six months. Accordingly, we will issue our final determination no later than 135 days after the date of publication of this preliminary determination, pursuant to section 735(a)(2) of the Act.²⁶

²⁶ See 19 CFR 351.210(b)(2) and (e).

International Trade Commission (ITC) Notification

In accordance with section 733(f) of the Act, we will notify the International Trade Commission (ITC) of our preliminary determination of sales at LTFV. If our final determination is affirmative, the ITC will determine before the later of 120 days after the date of this preliminary determination or 45 days after our final determination whether these imports are materially injuring, or threaten material injury to, the U.S. industry.

This determination is issued and published in accordance with sections 733(f) and 777(i)(I) of the Act and 19 CFR 351.205(c).

Dated: June 15, 2018.
Gary Taverman,
Deputy Assistant Secretary for Antidumping and Countervailing Duty Operations, performing the non-exclusive functions and duties of the Assistant Secretary for Enforcement and Compliance.

Appendix I

List of Topics Discussed in the Preliminary Decision Memorandum

I. Summary

II. Background

III. Period of Investigation

IV. Preliminary Determination of Critical Circumstances

V. Scope Comments

VI. Scope of the Investigation

VII. Postponement of Final Determination and Extension of Provisional Measures

VIII. Discussion of the Methodology

A. Non-Market Economy Country

B. Surrogate Country and Surrogate Values

C. Separate Rates

D. Combination Rates

E. Collapsing and Affiliation

F. China-Wide Entity

G. Application of Facts Available and Adverse Inferences

H. Date of Sale

I. Comparisons to Fair Value

J. Normal Value

K. Factor Valuation Methodology

L. Determination of the Comparison Method

IX. Currency Conversion

X. Adjustment Under Section 777A(F) of the Act

XI. Adjustment for Countervailable Export Subsidies

XII. Disclosure and Public Comment

XIII. Verification

XIV. Conclusion

Appendix II

Scope of the Investigation

The merchandise covered by this investigation is aluminum common alloy sheet (common alloy sheet), which is a flat-rolled aluminum product having a thickness of 6.3 mm or less, but greater than 0.2 mm, in coils or cut-to-length, regardless of width. Common alloy sheet within the scope of this investigation includes both not clad aluminum sheet, as well as multi-alloy, clad aluminum sheet. With respect to not clad aluminum sheet, common alloy sheet is manufactured from a 1XXX-, 3XXX-, or 5XXX-series alloy as designated by the Aluminum Association. With respect to multi-alloy, clad aluminum sheet, common alloy sheet is produced from a 3XXX-series core, to which cladding layers are applied to either one or both sides of the core.

Common alloy sheet may be made to ASTM specification B209-14, but can also be made to other specifications. Regardless of specification, however, all common alloy sheet meeting the scope description is included in the scope. Subject merchandise includes common alloy sheet that has been further processed in a third country, including but not limited to annealing, tempering, painting, varnishing, trimming, cutting, punching, and/or slitting, or any other processing that would not otherwise remove the merchandise from the scope of the investigations if performed in the country of manufacture of the common alloy sheet.

Excluded from the scope of this investigation is aluminum can stock, which is suitable for use in the manufacture of aluminum beverage cans, lids of such cans, or tabs used to open such cans. Aluminum can stock is produced to gauges that range from 0.200 mm to 0.292 mm, and has an H-19, H-41, H-48, or H-391 temper. In addition, aluminum can stock has a lubricant applied to the flat surfaces of the can stock to facilitate its movement through machines used in the manufacture of beverage cans. Aluminum can stock is properly classified under Harmonized Tariff Schedule of the United States (HTSUS) subheadings 7606.12.3045 and 7606.12.3055.

Where the nominal and actual measurements vary, a product is within the scope if application of either the nominal or actual measurement would place it within the scope based on the definitions set for the above.

Common alloy sheet is currently classifiable under HTSUS subheadings 7606.11.3060, 7606.11.6000, 7606.12.3090, 7606.12.6000, 7606.91.3090, 7606.91.6080, 7606.92.3090, and 7606.92.6080. Further, merchandise that falls within the scope of this investigation may also be entered into the United States under HTSUS subheadings 7606.11.3030, 7606.12.3030, 7606.91.3060, 7606.91.6040, 7606.92.3060, 7606.92.6040, 7607.11.9090. Although the HTSUS subheadings are provided for convenience and customs purposes, the written description of the scope of this investigation is dispositive.

[FR Doc. 2018-13423 Filed 6-21-18; 8:45 am]

BILLING CODE 3510-DS-P